DEPARTMENT OF TRANSPORTATION

Federal Aviation Administration

14 CFR Part 39

[Docket No. FAA-2025-2274; Project Identifier MCAI-2023-01244-R; Amendment 39-23219; AD 2025-25-11]

RIN 2120-AA64

Airworthiness Directives; Airbus Helicopters Deutschland GmbH Helicopters

AGENCY: Federal Aviation Administration (FAA), DOT.

ACTION: Final rule.

SUMMARY: The FAA is adopting a new airworthiness directive (AD) for all Airbus Helicopters Deutschland GmbH Model MBB-BK 117 C-2, MBB-BK 117 D-2, and MBB-BK 117 D-3 helicopters. This AD was prompted by reports of damaged hoist hooks and hoist hook nuts. This AD requires performing an inspection of the affected hoist hook and affected hook nut and, depending on the results of the inspection, replacing the affected hoist hook and affected hook nut. This AD also prohibits installing an affected assembly (hoist hook attached to the hook damper) on any helicopter, and prohibits installing an affected hoist hook on any helicopter unless it is installed using updated procedures. The FAA is issuing this AD to address the unsafe condition on these products.

DATES: This AD is effective February 6, 2026.

The Director of the Federal Register approved the incorporation by reference of a certain publication listed in this AD as of February 6, 2026.

ADDRESSES:

AD Docket: You may examine the AD docket at regulations.gov under Docket No. FAA-2025-2274; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; phone: +49 221 8999 000; email: ADs@easa.europa.eu; website: easa.europa.eu. You may find the EASA material on the EASA website at ad.easa.europa.eu.

• You may view this material at the FAA, Office of the Regional Counsel, Southwest Region, 10101 Hillwood Parkway, Room 6N-321, Fort Worth, TX 76177. For information on the availability of this material at the FAA, call (817) 222-5110. It is also available at regulations.gov under Docket No. FAA-2025-2274.

FOR FURTHER INFORMATION CONTACT: Ramon Walker Perez, Aviation Safety Engineer, FAA, 1600 Stewart Avenue, Suite 410, Westbury, NY 11590; phone: (847) 294-7337; email: ramon.a.walker.perez@faa.gov.

SUPPLEMENTARY INFORMATION:

Background

The FAA issued a notice of proposed rulemaking (NPRM) to amend 14 CFR part 39 by adding an AD that would apply to all Airbus Helicopters Deutschland GmbH Model MBB-BK 117 C-2, MBB-BK 117 D-2, and MBB-BK 117 D-3 helicopters. The NPRM was published in the Federal Register on September 5, 2025 (90 FR 42860). The NPRM was prompted by EASA AD 2023-0213, dated December 8, 2023 (EASA AD 2023-0213) (also referred to as the MCAI), issued by EASA, which is the Technical Agent for the Member States of the European Union. The MCAI states that occurrences of damage to the threaded part of the affected hoist hook and to the threads of the affected hook nut have been reported. Investigation identified galling as the root cause of the damage.

In the NPRM, the FAA proposed to require performing an inspection of the affected hoist hook and affected hook nut and, depending on the results of the inspection, replacing the affected hoist hook and affected hook nut, and installing a serviceable hoist hook in accordance with updated installation procedures. In the NPRM, the FAA also proposed to prohibit installing an affected assembly (hoist hook attached to the hook damper) on any helicopter, and to prohibit installing an affected hoist hook on any helicopter unless it is installed using updated procedures.

The FAA is issuing this AD to detect and correct damage to the hoist hook and hook nut, which if not corrected, could lead to failure of the affected assembly (hoist hook attached to the hook damper), which could result in loss of the hoist load and injury to persons.

You may examine the MCAI in the AD docket at regulations.gov under Docket No. FAA-2025-2274.

Discussion of Final Airworthiness Directive

Comments

The FAA received no comments on the NPRM or on the determination of the costs.

Conclusion

These products have been approved by the civil aviation authority of another country and are approved for operation in the United States. Pursuant to the FAA's bilateral agreement with this State of Design Authority, that authority has notified the FAA of the unsafe condition described in the MCAI referenced above. The FAA reviewed the relevant data, considered any comments received, and determined that air safety requires adopting this AD as proposed. Accordingly, the FAA is issuing this AD to address the unsafe condition on these products. Except for minor editorial changes, this AD is adopted as proposed in the NPRM. None of the changes will increase the economic burden on any operator.

Material Incorporated by Reference Under 1 CFR Part 51

The FAA reviewed EASA AD 2023-0213, which specifies procedures for inspecting the affected hoist hook and the affected hook and replacing both the hoist hook and hoist nut if any debris, dent, or crack is found in accordance with updated installation procedures. EASA AD 2023-0213 also prohibits installing an affected assembly (hoist hook attached to the hook damper) or any higher assembly having an affected assembly on a helicopter, and prohibits installing a hoist hook unless it is installed using the updated installation procedures. This material is reasonably available because the interested parties have access to it through their normal course of business or by the means identified in the ADDRESSES section.

Differences Between This AD and the MCAI

The MCAI applies to Airbus Helicopters Deutschland GmbH Model MBB-BK117 D-3m helicopters, whereas this AD does not because that model does not have an FAA type certificate.

Costs of Compliance

The FAA estimates that this AD affects 176 helicopters of U.S. registry.

The FAA estimates the following costs to comply with this AD:

Estimated Costs
Action | Labor cost | Parts cost | Cost per product | Cost on U.S. operators
Inspect hoist hook and hoist nut | 2 work-hours × $85 per hour = $170 | $0 | $170 | $29,920

The FAA estimates the following costs to do any replacements that would be required based on the results of the inspection. The agency has no way of determining the number of helicopters that might need this replacement.

On-Condition Costs
Action | Labor cost | Parts cost | Cost per product
Install hoist hook | 1 work-hour × $85 per hour = $85 | $8,562 | $8,647

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-25-11 Airbus Helicopters Deutschland GmbH: Amendment 39-23219; Docket No. FAA-2025-2274; Project Identifier MCAI-2023-01244-R.

(a) Effective Date

This airworthiness directive (AD) is effective February 6, 2026.

(b) Affected ADs

None.

(c) Applicability

This AD applies to Airbus Helicopters Deutschland GmbH Model MBB-BK 117 C-2, MBB-BK 117 D-2, and MBB-BK 117 D-3 helicopters, certificated in any category.

(d) Subject

Joint Aircraft System Component (JASC) Code 2500, Cabin Equipment/Furnishings.

(e) Unsafe Condition

This AD was prompted by reports of damage to the threaded part of the affected hoist hook and the threads of the affected hook nut due to galling. The FAA is issuing this AD to detect and correct damage to the hoist hook and hook nut, which if not corrected, could lead to failure of the affected assembly (hoist hook attached to the hook damper), which could result in loss of the hoist load and injury to persons.

(f) Compliance

Comply with this AD within the compliance times specified, unless already done.

(g) Required Actions

Except as specified in paragraphs (h) and (i) of this AD: Comply with all required actions and compliance times specified in, and in accordance with, European Union Aviation Safety Agency (EASA) AD 2023-0213, dated December 8, 2023 (EASA AD 2023-0213).

(h) Exceptions to EASA AD 2023-0213

(1) Where EASA AD 2023-0213 refers to its effective date, this AD requires using the effective date of this AD.

(2) This AD does not adopt the “Remarks” section of EASA AD 2023-0213.

(i) No Reporting or Returning Parts Requirement

Although the material referenced in EASA AD 2023-0213 specifies to submit information and return parts to the manufacturer, this AD does not require those actions.

(j) Alternative Methods of Compliance (AMOCs)

(1) The Manager, International Validation Branch, FAA, has the authority to approve AMOCs for this AD, if requested using the procedures found in 14 CFR 39.19. In accordance with 14 CFR 39.19, send your request to your principal inspector or local Flight Standards District Office, as appropriate. If sending information directly to the manager of the International Validation Branch, send it to the attention of the person identified in paragraph (k) of this AD and email to: AMOC@faa.gov.

(2) Before using any approved AMOC, notify your appropriate principal inspector, or lacking a principal inspector, the manager of the local flight standards district office/certificate holding district office.

(k) Additional Information

For more information about this AD, contact Ramon A. Walker Perez, Aviation Safety Engineer, FAA, 1600 Stewart Avenue, Suite 410, Westbury, NY 11590; phone: (847) 294-7337; email: ramon.a.walker.perez@faa.gov.

(l) Material Incorporated by Reference

(1) The Director of the Federal Register approved the incorporation by reference of the material listed in this paragraph under 5 U.S.C. 552(a) and 1 CFR part 51.

(2) You must use this material as applicable to do the actions required by this AD, unless the AD specifies otherwise.

(i) European Union Aviation Safety Agency (EASA) AD 2023-0213, dated December 8, 2023.

(ii) [Reserved]

(3) For EASA material identified in this AD, contact EASA, Konrad-Adenauer-Ufer 3, 50668 Cologne, Germany; phone: +49 221 8999 000; email: ADs@easa.europa.eu; website: easa.europa.eu. You may find the EASA material on the EASA website at ad.easa.europa.eu.

(4) You may view this material at the FAA, Office of the Regional Counsel, Southwest Region, 10101 Hillwood Parkway, Room 6N-321, Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Issued on December 10, 2025.
Steven W. Thompson,
Acting Deputy Director, Compliance & Airworthiness Division, Aircraft Certification Service.

[FR Doc. 2025-24181 Filed 12-31-25; 8:45 am]

BILLING CODE 4910-13-P